DEPARTMENT OF COMMERCE

Census Bureau

Annual Survey of Manufactures

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 4, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Mendel D. Gayle, Census Bureau, Room 2108, Building 4, Washington, DC 20233, (301) 763-4769 or via the Internet at mendel.d.gayle@census.gov.

SUPPLEMENTARY INFORMATION:

I. Abstract

The Census Bureau has conducted the Annual Survey of Manufactures (ASM) since 1949 to provide key measures of manufacturing activity during intercensal periods. In census years ending in “2” and “7”, we mail and collect the ASM as part of the Economic Census covering the Manufacturing Sector. This survey is an integral part of the Government's statistical program. The ASM furnishes up-to-date estimates of employment and payrolls, hours and wages of production workers, value added by manufacture, cost of materials, value of shipments by product class, inventories, and expenditures for both plant and equipment and structures. The survey provides data for most of these items for each of the 5-digit and selected 6-digit industries as defined in the North American Industry Classification System (NAICS). It also provides geographic data by state at a more aggregated industry level.

The survey also provides valuable information to private companies, research organizations, and trade associations. Industry makes extensive use of the annual figures on product class shipments at the U.S. level in its market analysis, product planning, and investment planning. The ASM data are used to benchmark and reconcile monthly and quarterly data on manufacturing production and inventories.

This ASM clearance request will be for the years 2004 to 2006. There will be no changes to the information requested from respondents.

II. Method of Collection

The ASM statistics are based on a survey that includes both a mail and a nonmail components. Previously, the mail portion of the survey was comprised of a probability sample of approximately 55,000 manufacturing establishments from a frame of approximately 225,000 establishments. These 225,000 establishments were all manufacturing establishments of multiunit companies (companies with operations at more than one location) and all single-location manufacturing companies that were mailed in the 1997 Census of Manufacturing. The nonmail component was comprised of the remaining small single-location companies; approximately 155,000 companies. No data has been collected from companies in the nonmail component. Rather, data has been directly obtained from the administrative records of the Internal Revenue Service (IRS), the Social Security Administration (SSA), and the Bureau of Labor Statistics (BLS). Although the nonmail companies account for over half of the population, they have accounted for less than 2 percent of the manufacturing output.

For the 2004-06 cycles of the ASM, we are researching options to expand the use of administrative record data and reduce the reporting burden on medium size single location companies by significantly expanding the scope of the nonmail component. This spring, we will be developing comparisons between administrative record data and the reported data in the 2002 Economic Census Covering the Manufacturing Sector. Based on these comparisons, we hope to expand the nonmail component to include approximately 200,000 single-unit companies. Currently, we are developing criteria to assist in this determination.

For the 2004-06 ASM's, we will continue to have a mail component of approximately 55,000 establishments from a significantly smaller sample frame. This will allow us to improve the overall quality of the survey estimates and allow us to better direct the sample towards specific tabulation cells that are difficult to estimate due to their size. The relative importance of the nonmail will increase; however, we do not expect the nonmail component to account for more than 10 percent of the survey estimates.

III. Data

OMB Number: 0607-0449.

Form Number: MA-10000(L), MA-10000(S).

Type of Review: Regular Review.

Affected Public: Businesses or other for profit, non-profit Institutions, small businesses or organizations, and State or Local Governments.

Estimated Number of Respondents: 55,000.

Estimated Time Per Response: 3.4 hours.

Estimated Total Annual Burden Hours: 187,000.

Estimated Total Annual Cost: The estimated cost to the respondents is $4,885,410.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2004.
Madeleine Clayton,
Management Analyst, Office of the Chief Information Officer.

[FR Doc. 04-7549 Filed 4-2-04; 8:45 am]

BILLING CODE 3510-07-P